DEPARTMENT OF TRANSPORTATION

Office of the Secretary

Aviation Proceedings, Agreements Filed the Week Ending January 23, 2010

The following Agreements were filed with the Department of Transportation under the Sections 412 and 414 of the Federal Aviation Act, as amended (49 U.S.C. 1382 and 1384) and procedures governing proceedings to enforce these provisions. Answers may be filed within 21 days after the filing of the application.

Docket Number: DOT-OST-2010-0019.

Date Filed: January 20, 2010.

Parties: Members of the International Air Transport Association.

Subject: Mail Vote 618, TC3 Special Passenger Amending Resolution 010L, between Japan and Korea (Rep. of), (Memo 1353), Intended effective date: 15 February 2010/1 April 2010.

Barbara J. Hairston,
Supervisory Dockets Officer, Docket Operations, Alternate Federal Register Liaison.

[FR Doc. 2010-2397 Filed 2-3-10; 8:45 am]

BILLING CODE 4910-9X-P